DEPARTMENT OF THE INTERIOR

Bureau of Indian Affairs

Extension of the Comment Period for the Draft Environmental Impact Statement for the Proposed Absaloka Mine Crow Reservation South Extension Coal Lease Approval, Mine Development Plan and Related Federal and State Permitting Actions, Big Horn County, MT

AGENCY: Bureau of Indian Affairs, Interior.

ACTION: Notice.

SUMMARY: This notice advises the public that the Bureau of Indian Affairs (BIA) is extending by 30 days the public comment period for the Draft Environmental Impact Statement for the Proposed Absaloka Mine Crow Reservation South Extension Coal Lease Approval, Mine Development Plan and Related Federal and State Permitting Actions, announced in the Federal Register on March 21, 2008 (73 FR 15189). The closing date for public comments announced in the March 21, 2008, notice was May 5, 2008.

DATES: The extended public comment period closes on June 4, 2008. Written comments on the DEIS must arrive by that date.

ADDRESSES: You may mail or hand-carry written comments to George Gover, Superintendent, Crow Agency, P.O. Box 69, Crow Agency, Montana 59022. You may also comment via the Internet to westmorelandeis@mt.gov. Please submit Internet comments as an ASCII file, avoiding the use of special characters and any form of encryption. Please include your name and return address in your Internet message. If you do not receive a confirmation from the system that we have received your Internet message, contact Greg Hallsten at (406) 444-3276.

FOR FURTHER INFORMATION CONTACT: Rick Stefanic, (406) 247-7911.

SUPPLEMENTARY INFORMATION:

Public Comment Availability

Comments, including names and addresses of respondents, will be available for public review at the BIA address shown in the ADDRESSES section, during business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality Regulations (40 CFR, Parts 1500 through 1508) implementing the procedural requirements of the National Environmental Policy Act of 1969, as amended (42 U.S.C. 4371 et seq.), Department of the Interior Manual (516 DM 1-6), and is in the exercise of authority delegated to the Director, Office of Environmental Policy and Compliance, via 516 DM 6.3 B. and Environmental Statement Memorandum ESM04-12.6(e).

Mary Josie Blanchard,
Deputy Director, Office of Environmental Policy and Compliance.

[FR Doc. E8-9703 Filed 5-1-08; 8:45 am]

BILLING CODE 4310-W7-P